DEPARTMENT OF THE INTERIOR

Bureau of Ocean Energy Management

[Docket No. BOEM-2014-0001; MMAA104000]

Outer Continental Shelf, Alaska Region, Cook Inlet Program Area, Proposed Oil and Gas Lease Sale 244

AGENCY: Bureau of Ocean Energy Management, Interior.

ACTION: Notice of intent to prepare an environmental impact statement and hold public scoping meetings.

SUMMARY: Consistent with the regulations implementing the National Environmental Policy Act (NEPA), the Bureau of Ocean Energy Management (BOEM) is announcing its intent to prepare an Environmental Impact Statement (EIS) for proposed Lease Sale 244 in the Cook Inlet Program Area. The EIS will focus on the potential effects of leasing, exploration, development and production of oil and natural gas in the proposed lease sale area. In addition to the no-action alternative (i.e., not holding the lease sale), other alternatives may be considered, such as deferring additional areas within the Cook Inlet proposed lease sale area.

DATES: Comments should be submitted by December 8, 2014 through http://www.regulations.gov/.

FOR FURTHER INFORMATION CONTACT: For information on the Lease Sale 244 EIS, the submission of comments, or BOEM's policies associated with this notice, please contact Michael Rolland, Regional Supervisor, BOEM, Alaska OCS Region, 3801 Centerpoint Drive, Suite 500, Anchorage, AK 99503, telephone (907) 334-5271.

SUPPLEMENTARY INFORMATION: On August 27, 2012, the Secretary of the Interior approved the June 2012 Proposed Final Outer Continental Shelf Oil & Gas Leasing Program 2012-2017 (Five Year Program). The Five Year Program includes proposed Lease Sale 244.

There are currently no Federal leases in the Cook Inlet Planning Area. The proposed Lease Sale 244 leasing area is located offshore of the State of Alaska in the northern portion of the Federal waters of Cook Inlet and consists of 224 lease blocks and covers roughly 437,613 hectares (approximately 1.07 million acres of the total Cook Inlet Planning Area of 5.3 million acres). The lease sale area was identified in the November 27, 2013, Area Identification (Area ID) available at www.boem.gov/Sale-244/. While including most of the areas identified by industry in their responses to the March 27, 2012, Request for Interest, the proposed lease sale area in the Area ID also:

• Excludes the majority of the designated critical habitat areas for beluga whale and northern sea otter, and excludes the critical habitat areas for Steller sea lions and the North Pacific right whale;

• reduces potential effects to parks, preserves, and wildlife refuges by placing a buffer between the area considered for leasing and the Katmai National Park and Preserve, the Kodiak National Wildlife Refuge, and the Alaska Maritime National Wildlife Refuge; and

• excludes many of the subsistence use areas for the Native Villages of Nanwalek and Port Graham identified during the Cook Inlet Lease Sale 191 process.

This notice of intent is not an announcement to hold a proposed lease sale, but is a continuation of the information gathering process and is published early in the environmental review process in furtherance of the goals of NEPA. The comments received during scoping will help inform the content of the Lease Sale 244 EIS. If, after completion of the EIS, the Department of the Interior's Assistant Secretary for Land and Minerals Management chooses to hold the proposed lease sale, that decision and the details related to the lease sale (including, the lease sale area and any mitigation) will be announced in a Record of Decision and Final Notice of Sale.

Scoping Process: This notice of intent also serves to announce the scoping process for identifying key issues for the Lease Sale 244 EIS. Throughout the scoping process, Federal, State, Tribal and local governments and the general public have the opportunity to provide input to BOEM in determining significant resources, issues, impacting factors, reasonable alternatives, and potential mitigation measures to be analyzed in the Lease Sale 244 EIS. BOEM will evaluate additional alternatives, deferral and/or mitigation suggestions identified during scoping meetings and the comment period initiated by this notice of intent in the preparation of the EIS.

BOEM will use the NEPA process to satisfy the public comment requirements of section 106 of the National Historic Preservation Act (16 U.S.C. 470f), as provided for in 36 CFR 800.2(d)(3).

Scoping Meetings: Pursuant to the regulations implementing the procedural provisions of NEPA, BOEM will hold public scoping meetings. The purpose of these meetings is to solicit comments on the scope of the Lease Sale 244 EIS. These meetings are scheduled as follows:

• November 12, 2014, Tribal Conference Center, Seldovia, Alaska;

• November 13, 2014, Tribal Community Center, Nanwalek, Alaska;

• November 13, 2014, Best Western Bidarka Inn, 575 Sterling Highway, Homer, Alaska;

• November 14, 2014, Kenai Peninsula College, 156 College Road, Soldotna, Alaska; and

• November 24, 2014, Loussac Library Complex, 3600 Denali Street, Anchorage, Alaska.

All meetings will start at 7:00 p.m. (except Nanwalek, which will begin at 12:00 p.m.).

Written Comments: All interested parties, including Federal, State, Tribal, and local governments, and the general public, may submit written comments on the scope of the Lease Sale 244 EIS, significant issues that should be addressed, alternatives that should be considered, potential mitigation measures, and the types of oil and gas activities of interest in the proposed Lease Sale 244 area.

Scoping comments may be made through the regulations.gov web portal: Navigate to http://www.regulations.gov and search for Docket BOEM-2014-0001, or “Oil and Gas Lease Sales: Alaska Outer Continental Shelf; Cook Inlet Program Area Lease Sale 244”. Click on the “Comment Now!” button to the right of the document link. Enter your information and comment, and then click “Submit.”

Before including your address, phone number, email address, or other personal identifying information in your comment, you should be aware that your entire comment—including your personal identifying information—may be made publicly available at any time. While you can ask us in your comment to withhold your personal identifying information from public review, we cannot guarantee that we will be able to do so.

Cooperating Agency: BOEM invites qualified government entities, such as other Federal Agencies, State, Tribal, and local governments, to consider becoming cooperating agencies for the preparation of Lease Sale 244 EIS. Following the guidelines at 40 CFR 1501.6 and 1508.5 from the Council on Environmental Quality (CEQ), qualified agencies and governments are those with “jurisdiction by law or special expertise.” Potential cooperating agencies should consider their authority and capacity to assume the responsibilities of a cooperating agency and remember that an agency's role in the environmental analysis neither enlarges nor diminishes the final decision-making authority of any other agency involved in the NEPA process. Upon request, BOEM will provide potential cooperating agencies with a written summary of guidelines for cooperating agencies, including time schedules and critical action dates, milestones, responsibilities, scope and detail of cooperating agencies' contributions, and availability of pre-decisional information. BOEM anticipates this summary will form the basis for a Memorandum of Understanding between BOEM and any cooperating agency. BOEM, as the lead agency, will not provide financial assistance to cooperating agencies. In addition to becoming a cooperating agency, other opportunities will exist to provide information and comments to BOEM during the public comment period for the EIS. For additional information about cooperating agencies, please contact Michael Rolland, Regional Supervisor, BOEM, at telephone (907) 334-5271.

Authority: This notice of intent is published pursuant to the regulation at 40 CFR 1501.7 implementing the provisions of NEPA.

Walter D. Cruickshank,
Acting Director, Bureau of Ocean Energy Management.

[FR Doc. 2014-25255 Filed 10-22-14; 8:45 am]

BILLING CODE 4310-MR-P